DEPARTMENT OF ENERGY

Federal Energy Regulatory Commission

Combined Notice of Filings #1

Take notice that the Commission received the following electric corporate filings:

Docket Numbers: EC24-75-000.

Applicants: Happy Solar 1, LLC, Oxbow Solar Farm 1, LLC.

Description: Joint Application for Authorization under Section 203 of the Federal Power Act of Happy Solar 1, LLC, et al.

Filed Date: 5/1/24.

Accession Number: 20240501-5421.

Comment Date: 5 p.m. ET 5/22/24.

Take notice that the Commission received the following exempt wholesale generator filings:

Docket Numbers: EG24-172-000

Applicants: Morris Ridge Solar Energy Center, LLC.

Description: Morris Ridge Solar Energy Center, LLC submits Notice of Self-Certification of Exempt Wholesale Generator Status.

Filed Date: 5/1/24.

Accession Number: 20240501-5415.

Comment Date: 5 p.m. ET 5/22/24.

Take notice that the Commission received the following electric rate filings:

Docket Numbers: ER10-2727-009; ER10-1451-011; ER10-1467-012; ER10-1269-002; ER10-1473-012; ER10-1474-012; ER10-1478-014; ER10-2687-011; ER10-2688-014; ER10-2689-015; ER10-2728-013; ER11-3907-005.

Applicants: The Toledo Edison Company, Green Valley Hydro, LLC, West Penn Power Company, The Potomac Edison Company, Monongahela Power Company, Pennsylvania Electric Company, Metropolitan Edison Company, Pennsylvania Power Company, The Cleveland Electric Illuminating Company, Ohio Edison Company, Jersey Central Power & Light, Allegheny Energy Supply Company, LLC.

Description: Notice of Non-Material Change in Status of Allegheny Energy Supply Company, LLC, et al.

Filed Date: 4/30/24.

Accession Number: 20240430-5641.

Comment Date: 5 p.m. ET 5/21/24.

Docket Numbers: ER11-3859-025; ER14-1699-015; ER17-436-011; ER21-1810-002.

Applicants: Marco DM Holdings, L.L.C., Marcus Hook Energy, L.P., Milford Power, LLC, Dighton Power, LLC.

Description: Notice of Change in Status of Dighton Power, LLC, et al.

Filed Date: 4/30/24.

Accession Number: 20240430-5639.

Comment Date: 5 p.m. ET 5/21/24.

Docket Numbers: ER12-21-028; ER10-2381-015; ER11-2206-016; ER11-2207-016; ER11-2209-016; ER11-2210-016; ER11-2211-016; ER11-2855-030; ER11-2856-030; ER11-2857-030; ER11-3727-022; ER12-1711-022; ER13-1150-014; ER13-1151-014; ER13-1991-030; ER13-1992-030; ER17-1217-005; ER18-814-007; ER19-672-007; ER19-843-007; ER19-1061-007; ER19-1063-007; ER19-1200-011; ER20-486-007; ER21-963-004; ER23-175-004; ER23-1577-002; ER23-2403-001; ER23-2406-001.

Applicants: Arica Solar, LLC, Victory Pass I, LLC, Daggett Solar Power 2 LLC, Daggett Solar Power 3 LLC, Silverstrand Grid, LLC, Golden Fields Solar III, LLC, Clearway Power Marketing LLC, Solar Borrego I LLC, Solar Alpine LLC, Solar Blythe LLC, Marsh Landing LLC, Carlsbad Energy Center LLC, TotalEnergies Gas & Power North America, Inc., Desert Sunlight 300, LLC, Desert Sunlight 250, LLC, Alta Wind XI, LLC, Alta Wind X, LLC, High Plains Ranch II, LLC, El Segundo Energy Center LLC, Sun City Project LLC, Sand Drag LLC, Avenal Park LLC, Alta Wind I, LLC, Alta Wind III, LLC, Alta Wind II, LLC, Alta Wind IV, LLC, Alta Wind V, LLC, Walnut Creek Energy, LLC, Agua Caliente Solar, LLC.

Description: Notice of Change in Status of Agua Caliente Solar, LLC, et al.

Filed Date: 4/30/24.

Accession Number: 20240430-5640.

Comment Date: 5 p.m. ET 5/21/24.

Docket Numbers: ER15-793-002.

Applicants: Southern Indiana Gas and Electric Company, Inc.

Description: Notice of Change in Status of Southern Indiana Gas and Electric Company.

Filed Date: 4/30/24.

Accession Number: 20240430-5634.

Comment Date: 5 p.m. ET 5/21/24.

Docket Numbers: ER17-256-020; ER17-242-019; ER17-243-019; ER17-245-019; ER17-652-019.

Applicants: Lightstone Marketing LLC, Waterford Power, LLC, Lawrenceburg Power, LLC, Gavin Power, LLC, Darby Power, LLC.

Description: Notice of Non-Material Change in Status of Darby Power, LLC, et al.

Filed Date: 5/1/24.

Accession Number: 20240501-5408.

Comment Date: 5 p.m. ET 5/22/24.

Docket Numbers: ER17-1794-007.

Applicants: Innovative Solar 42, LLC.

Description: Notice of Change in Status of Innovative Solar 42, LLC.

Filed Date: 4/30/24.

Accession Number: 20240430-5637.

Comment Date: 5 p.m. ET 5/21/24.

Docket Numbers: ER18-1978-013; ER10-1852-092; ER10-1951-067; ER11-2192-022; ER11-4462-091; ER17-838-065; ER18-772-012; ER19-1392-011; ER22-96-005; ER24-61-002.

Applicants: Sky Ranch Solar, LLC, Route 66 Solar Energy Center, LLC, High Lonesome Mesa Wind, LLC, New Mexico Wind, LLC, NextEra Energy Marketing, LLC, NEPM II, LLC, Red Mesa Wind, LLC, NextEra Energy Services Massachusetts, LLC, Florida Power & Light Company, Casa Mesa Wind, LLC.

Description: Notice of Change in Status of Casa Mesa Wind, LLC, et al.

Filed Date: 4/30/24.

Accession Number: 20240430-5642.

Comment Date: 5 p.m. ET 5/21/24.

Docket Numbers: ER20-711-003.

Applicants: Cambria Wind, LLC.

Description: Notice of Change in Status of Cambria Wind LLC.

Filed Date: 4/30/24.

Accession Number: 20240430-5638.

Comment Date: 5 p.m. ET 5/21/24.

Docket Numbers: ER23-2221-001; ER17-1984-003; ER17-1988-003; ER23-1005-001.

Applicants: Vitol PA Wind Marketing LLC, Patton Wind Farm, LLC, Highland North LLC, Twin Ridges LLC.

Description: Notice of Change in Status of Twin Ridges LLC, et al.

Filed Date: 4/30/24.

Accession Number: 20240430-5636.

Comment Date: 5 p.m. ET 5/21/24.

Docket Numbers: ER24-1915-000.

Applicants: New York Independent System Operator, Inc.

Description: Compliance filing: NYISO Compliance: Order No. 2023 and 2023-A Interconnection Procedures to be effective 5/2/2024.

Filed Date: 5/1/24.

Accession Number: 20240501-5351.

Comment Date: 5 p.m. ET 5/22/24.

Docket Numbers: ER24-1916-000.

Applicants: Stones DR, LLC.

Description: Tariff Amendment: Notice of Cancellation to be effective 5/2/2024.

Filed Date: 5/1/24.

Accession Number: 20240501-5358.

Comment Date: 5 p.m. ET 5/22/24.

Docket Numbers: ER24-1917-000.

Applicants: Idaho Power Company.

Description: § 205(d) Rate Filing: SA #525—KCE ID 1 LGIA to be effective 1/29/2024.

Filed Date: 5/1/24.

Accession Number: 20240501-5363.

Comment Date: 5 p.m. ET 5/22/24.

Docket Numbers: ER24-1918-000.

Applicants: Idaho Power Company.

Description: § 205(d) Rate Filing: SA 526—Olney Generating Facility LGIA to be effective 2/1/2024.

Filed Date: 5/1/24.

Accession Number: 20240501-5377.

Comment Date: 5 p.m. ET 5/22/24.

Docket Numbers: ER24-1919-000.

Applicants: Idaho Power Company.

Description: § 205(d) Rate Filing: SA #527—Martha Fields Energy Center LGIA to be effective 3/7/2024.

Filed Date: 5/1/24.

Accession Number: 20240501-5383.

Comment Date: 5 p.m. ET 5/22/24.

Docket Numbers: ER24-1920-000.

Applicants: NorthWestern Corporation.

Description: § 205(d) Rate Filing: SA 992—Conditional Firm PTP Trans. Service with WAPA to be effective 7/1/2024.

Filed Date: 5/1/24.

Accession Number: 20240501-5395.

Comment Date: 5 p.m. ET 5/22/24.

Docket Numbers: ER24-1921-000.

Applicants: NorthWestern Corporation.

Description: § 205(d) Rate Filing: SA 991—Conditional Firm PTP Trans. Service with WAPA to be effective 7/1/2024.

Filed Date: 5/1/24.

Accession Number: 20240501-5401.

Comment Date: 5 p.m. ET 5/22/24.

Docket Numbers: ER24-1922-000.

Applicants: Idaho Power Company.

Description: § 205(d) Rate Filing: SA #528—Sole Rest LGIA to be effective 3/13/2024.

Filed Date: 5/2/24.

Accession Number: 20240502-5002.

Comment Date: 5 p.m. ET 5/23/24.

Docket Numbers: ER24-1923-000.

Applicants: Idaho Power Company.

Description: § 205(d) Rate Filing: SA #529—Blacks Creek Energy Center LGIA to be effective 4/4/2024.

Filed Date: 5/2/24.

Accession Number: 20240502-5003.

Comment Date: 5 p.m. ET 5/23/24.

Docket Numbers: ER24-1924-000.

Applicants: Midcontinent Independent System Operator, Inc.

Description: § 205(d) Rate Filing: 2024-05-02_SA 3134 ETI-Liberty County Solar Project 1st Rev GIA (J483) to be effective 4/22/2024.

Filed Date: 5/2/24.

Accession Number: 20240502-5041.

Comment Date: 5 p.m. ET 5/23/24.

Docket Numbers: ER24-1925-000.

Applicants: PJM Interconnection, L.L.C.

Description: Tariff Amendment: Notice of Cancellation of WMPA, SA No. 6171; Queue No. AF2-276 to be effective 6/4/2024.

Filed Date: 5/2/24.

Accession Number: 20240502-5062.

Comment Date: 5 p.m. ET 5/23/24.

Docket Numbers: ER24-1926-000.

Applicants: Ameren Illinois Company.

Description: § 205(d) Rate Filing: Filing of a Reimbursement Agreement to be effective 7/2/2024.

Filed Date: 5/2/24.

Accession Number: 20240502-5063.

Comment Date: 5 p.m. ET 5/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 2, 2024.
Debbie-Anne A. Reese,
Acting Secretary.

[FR Doc. 2024-10038 Filed 5-7-24; 8:45 am]

BILLING CODE 6717-01-P